GENERAL SERVICES ADMINISTRATION

[Notice-FTR 2013-01; Docket 2013-0002; Sequence 7]

Maximum Per Diem Rates for the States of Oklahoma and Texas

AGENCY: Office of Governmentwide Policy (OGP), General Services Administration (GSA).

ACTION: Notice of Per Diem Bulletin 13-04, revised continental United States (CONUS) per diem rates.

SUMMARY: The General Services Administration (GSA) has conducted its mid-year review and has determined that the per diem rates for certain locations in the States of Oklahoma and Texas are inadequate.

DATES: Effective date: This notice is effective April 1, 2013 and applies to travel performed on or after April 1, 2013.

FOR FURTHER INFORMATION CONTACT: For clarification of content, please contact Ms. Jill Denning, Office of Governmentwide Policy, Office of Asset and Transportation Management, at 202-208-7642, or by email at travelpolicy@gsa.gov. Please cite Notice of FTR Bulletin 13-04.

SUPPLEMENTARY INFORMATION:

A. Background

After an analysis of the per diem rates established for FY 2013 (see the Federal Register notice at 77 FR 54578, September 5, 2012, and FTR Bulletin 13-01), non-standard area per diem rates are being established for the following locations:

State of Oklahoma

• Garfield County

State of Texas

• Midland County

CONUS per diem rates are published as FTR per diem bulletins available on the Internet at www.gsa.gov/perdiem and www.gsa.gov/bulletins. This process ensures timely notice of increases or decreases in per diem rates established by GSA for Federal employees on official travel within CONUS. Notices published periodically in the Federal Register, such as this one, now constitute the only notification of revisions in CONUS per diem rates to agencies.

Dated: March 22, 2013.
Craig J. Flynn,
Acting Deputy Director, Office of Asset and Transportation Management, Office of Governmentwide Policy.

[FR Doc. 2013-07243 Filed 3-27-13; 8:45 am]

BILLING CODE 6820-14-P